DEPARTMENT OF HEALTH AND HUMAN SERVICES

Food and Drug Administration

[Docket No. FDA-2014-D-1288]

Draft Guidance for Industry: Electronic Submission of Lot Distribution Reports; Availability; Correction

AGENCY: Food and Drug Administration, HHS.

ACTION: Notice; correction.

SUMMARY: The Food and Drug Administration is correcting a notice entitled “Draft Guidance for Industry: Electronic Submission of Lot Distribution Reports; Availability” that appeared in the Federal Register of August 29, 2014 (79 FR 51576). The document announced the availability of a draft guidance entitled “Guidance for Industry: Electronic Submission of Lot Distribution Reports” dated August 2014. The document was published with the incorrect docket number. This document corrects that error.

FOR FURTHER INFORMATION CONTACT: Lori J. Churchyard, Center for Biologics Evaluation and Research, Food and Drug Administration, 10903 New Hampshire Ave., Bldg. 71, Rm. 7301, Silver Spring, MD 20993-0002, 240-402-7911.

SUPPLEMENTARY INFORMATION: In the Federal Register of Friday, August 29, 2014, in FR Doc. 2014-20635, on page 51576, the following correction is made:

1. On page 51576, in the first column, in the Docket No. heading, “[FDA-2014-S-0009]” is corrected to read “[FDA-2014-D-1288]”.

Dated: September 10, 2014.
Leslie Kux,
Assistant Commissioner for Policy.

[FR Doc. 2014-22015 Filed 9-15-14; 8:45 am]

BILLING CODE 4164-01-P